DEPARTMENT OF ENERGY

Federal Energy Regulatory Commission

[Project No. 2716-051]

Virginia Electric and Power Company d/b/a Dominion Energy Virginia, Allegheny Generating Company, and Bath County Energy, LLC; Notice of Revised Procedural Schedule

Take notice that the schedule for processing the Bath County Pumped Storage Project No. 2716 final license application has been updated. Subsequent revisions to the schedule may be made as appropriate.

Milestone | Target date
Issue Acceptance Letter | October 2025.
Issue Notice of Ready for Environmental Analysis | October 2025.
Comments, Recommendations, and Agency Terms and Conditions/Prescriptions | December 2025.

Dated: August 20, 2025.
Debbie-Anne A. Reese,
Secretary.

[FR Doc. 2025-16299 Filed 8-25-25; 8:45 am]

BILLING CODE 6717-01-P